DEPARTMENT OF VETERANS AFFAIRS

[EISX-029-15-VHA-1734563688]

Notice of Intent To Prepare an Environmental Impact Statement for the Proposed Relocation of the Veteran Affairs Medical Center in San Antonio, Texas

AGENCY: Department of Veterans Affairs.

ACTION: Notice of Intent to prepare an Environmental Impact Statement.

SUMMARY: The Department of Veterans Affairs (VA) is issuing this Notice of Intent (NOI) to solicit comment and advise the public, agencies, and stakeholders that an Environmental Impact Statement (EIS) will be prepared for a new approximately 1,600,000 gross square foot replacement for the existing Audie L. Murphy Memorial Veterans Hospital, located at 7400 Merton Minter Boulevard in San Antonio, Texas. The Audie L. Murphy Memorial Veterans Hospital is a Veterans Affairs Medical Center (VAMC), providing health care services to approximately 140,000 Veterans directly and in support of the Kerrville Texas VAMC. Persons or agencies who may be interested in or affected by the proposed project are encouraged to comment on the information in this NOI. All comments received in response to this NOI will be considered and any information presented herein, including the preliminary purpose and need, preliminary alternatives and identified impacts, may be revised in consideration of the comments.

DATES: Scoping comments must be received on or before April 7, 2025. VA anticipates releasing the Draft EIS for a 45-day public review and comment period in late 2025 or early 2026.

ADDRESSES: Comments must be submitted through www.regulations.gov. Except as provided below, comments received before the close of the comment period will be available at www.regulations.gov for public viewing, inspection, or copying, including any personally identifiable or confidential business information that is included in a comment. We post the comments received before the close of the comment period on www.regulations.gov as soon as possible after they have been received. VA will not post on Regulations.gov public comments that make threats to individuals or institutions or suggest that the commenter will take actions to harm an individual. VA encourages individuals not to submit duplicative comments; however, we will post comments from multiple unique commenters even if the content is identical or nearly identical to other comments. Any public comment received after the comment period's closing date is considered late and will not be considered in any final action.

FOR FURTHER INFORMATION CONTACT: Mr. Bruce Mack, Environmental Engineer, Office of Construction and Facilities Management (003C2), Department of Veterans Affairs, at vacoenvironment@va.gov or (224) 817-2374. (This is not a toll-free telephone number.) Please reference “San Antonio VAMC EIS” in the subject of your correspondence. In addition, the publicly accessible website provides further project information: https://www.cfm.va.gov/environmental/index.asp.

SUPPLEMENTARY INFORMATION:

Regulatory Framework

VA is preparing the EIS in accordance with the requirements of the National Environmental Policy Act (NEPA) of 1969, as amended (42 United States Code [U.S.C.] 4321, et seq.), Council on Environmental Quality (CEQ) regulations implementing NEPA (40 Code of Federal Regulations [CFR] part 1500-1508), VA's NEPA Implementing Regulations (38 CFR part 26).

VA may elect to use the NEPA process to consider impacts to historic properties traditionally addressed through 54 U.S.C. 306108 of the National Historic Preservation Act (NHPA) and its implementing regulations codified in 36 CFR part 800 (collectively “Section 106”). This process, referred to as substitution, is described in 36 CFR 800.8(c) and the NEPA and NHPA: A Handbook for Integrating NEPA and Section 106 published by the Advisory Council on Historic Preservation and CEQ.

Preliminary Purpose and Need

The preliminary purpose is to provide exceptional health care services to the growing Veteran population in the South Texas region. The South Texas region is undergoing a substantial increase in Veteran population, placing additional demands on already stressed health care infrastructure. In 2022, the VAMC supported approximately 146,000 Veteran enrollees. By 2033, that number of enrollees is projected to increase to approximately 188,000 and grow to approximately 202,000 by 2042. This projected Veteran enrollee growth of more than 20% between 2022 and 2033 will drive an increase in demand for Veteran health care services in the South Texas region.

The proposed action is needed to address critical infrastructure, functional, and space limitations at the existing VAMC. Built in 1972, the VAMC has aging infrastructure and space limitations. The configuration of the existing VAMC does not support modern health care delivery models, has little room for expansion, and does not have sufficient parking to accommodate current, much less the projected future enrollees. These limitations make it challenging to meet modern health care requirements and the needs of the growing South Texas Veteran population.

Preliminary Project Alternatives

The existing VAMC is located in a concentration of medical facilities generally known as the San Antionio medical district. The location of the current VAMC in the medical district facilitates collaboration, education, and advancement with other nearby health-care providers, significantly enhancing the quality of care to Veterans. Therefore, both alternatives are located within the medical district.

The preliminary alternatives will go through a screening process, which will be informed by the public and agency input through scoping. The VA will consider agency and public comments received during the NOI scoping period. Thus, these preliminary alternatives are subject to change.

Alterative 1: Relocation of VAMC to Nearby Site

This alternative would replace the existing VAMC by acquiring land, constructing, and operating a new VAMC at a nearby location within the San Antonio medical district. The potential location is an approximately 59 acres undeveloped area. The potential relocation property is owned by the San Antonio Medical Foundation and is located east of Floyd Curl Drive, north of Hamilton Wolfe, and south of Fawn Meadow Circle.

Alternative 2: Redevelopment of Existing VAMC Site

This alternative consists of redeveloping the existing approximately 32-acre site by demolishing the existing VAMC and constructing a new VAMC.

No Action Alternative

The No Action Alternative means no relocation or redevelopment of the existing VAMC would occur. VA would continue to provide services at the existing VAMC.

Preliminary Summary of Expected Effects

The EIS will evaluate the potential social, economic, and environmental effects resulting from implementation of the alternatives. VA seeks input on the relative importance of these area of concern, suggestions regarding additional environmental impacts that should be evaluated, and possible mitigation measures to be considered. The EIS will describe and evaluate the potential impacts from construction and operations under each alternative on the following resources: Aesthetics, Air Quality, Historic and Cultural Resources, Geology and Soils, Floodplains and Wetlands, Hydrology and Water Quality, Noise, Land Use, Community Services, Solid Water and Hazardous Materials, Transportation and Parking, Utilities, Wildlife and Habitat, Socioeconomics and Environmental Justice, and Cumulative Impacts. The alternatives being considered have the potential to produce the following effects.

Air Quality. The alternatives have the potential to impact air quality. The EIS will model air emissions for criteria pollutants and greenhouse gas emissions. The EIS will estimate the potential emissions and compare them against existing de minimis levels and applicable standards.

Transportation and Parking. The alternatives have the potential to impact transportation in the area, during both construction and operations. The EIS will incorporate the results of a detailed transportation and parking study analyzing both alternatives.

Historic and Cultural Resources. The EIS will evaluate the potential for impacts to historic and cultural resources at both locations. VA will prepare documentation to comply with the NHPA.

Hydrology and Water Quality. The alternatives have the potential to impact water resources and alter site hydrology. The EIS will incorporate the results of a detailed hydrology study evaluating both locations.

Noise. Construction of the alternatives would result in a temporary increase in noise levels at and adjacent to the alternatives. The EIS will incorporate the results of a detailed noise study.

The level of review identified for the EIS will be commensurate with the anticipated impacts of each resource from the alternatives and will be governed by the statutory or regulatory requirements pertaining to those resources. The analyses and evaluations conducted for the EIS will identify the potential for impacts, whether the anticipated impacts would be adverse, and any appropriate environmental mitigation measures. The resources identified for detailed impact analysis in the EIS may be revised in response to public comments.

Anticipated Permits (and Other Authorizations)

Federal, State, and local agency permits, and other authorizations, are anticipated to be needed for the proposed action. VA will undertake necessary consultations with other government agencies and consulting parties pursuant to NHPA, Endangered Species Act, Clean Water Act, and other applicable environmental laws. Consultation will include, but will not be limited to: Federal, State, and local agencies; the Texas Historical Commission; and Federally-recognized Indian tribes with a geographical and/or cultural connection to the area.

Schedule for the Decision-Making Process

The project schedule for the decision-making process will comply with 40 CFR 1501.10(b)(2) (https://www.ecfr.gov/current/title-40/part-1501#p-1501.10(b)(2)), which requires an EIS to be completed within 2 years (from the date of publication of this NOI) to the date of issuance of the record of decision. The Draft EIS is anticipated to be issued in late 2025/early 2026. A public comment period will follow the publication of the Draft EIS. The Final EIS and record of decision are anticipated to be issued in late 2026/early 2027.

Scoping and Public Review

VA invites Federal, State, Tribal, and local entities; non-profit organizations; businesses; interested parties; and the public to comment on the proposed scope and content of the EIS. VA will consider all scoping comments in developing the EIS. VA will hold two public scoping meetings in March 2025. The meetings will be held on Tuesday, March 11, 2025, from 6:00 p.m. to 8:00 p.m. and on Wednesday March 12, 2025, from 9:30 a.m. to 11:30 a.m. Both meetings will be held in the Building 5 Auditorium at the Audie L. Murphy Memorial Veterans Hospital (7400 Merton Minter Boulevard in San Antonio, Texas). The scoping meeting will provide an opportunity to learn about the project and provide input on the environmental analysis process. During the scoping meeting, VA will provide an overview of the project and details regarding the EIS and NEPA process. VA will post the scoping presentation and other project information on the publicly accessible website, https://www.cfm.va.gov/environmental/index.asp. VA will post meeting directions/instructions at the VAMC and on the project website. Comments must be received by the end of the scoping period, which is April 7, 2025.

Request for Identification of Potential Alternatives, Information, and Analyses Relative to the Proposed Action

To ensure that a full range of issues related to the proposed action are addressed and all potential issues are identified, VA requests comments and suggestions on potential alternatives and impacts, and the identification of any relevant information, studies, or analyses of any kind concerning impacts affecting the quality of the human environment. Specifically, agencies and the public are asked to identify and submit potential alternatives for consideration and any information, such as anticipated significant issues or environmental impacts and analyses relevant to the proposed action. Submitted comments will be considered by VA in developing the Draft EIS. Any information presented herein, including the preliminary purpose and need, preliminary range of alternatives and identification of potential impacts may be revised after consideration of the comments. The purpose of this notice is to bring relevant comments, information, and analyses to the VA's attention, as early in the process as possible, to enable VA to make maximum use of this information in decision making.

Cooperating and Participating Agencies

There are no cooperating agencies to the EIS as defined by CEQ regulations, however VA has, and will continue to, communicate with local, State, Federal and Tribal stakeholders as part of the EIS process.

Signing Authority

Douglas A. Collins, Secretary of Veterans Affairs, approved and signed this document on February 12, 2025 and authorized the undersigned to sign and submit the document to the Office of the Federal Register for publication electronically as an official document of the Department of Veterans Affairs.

Jeffrey M. Martin,
Assistant Director, Office of Regulation Policy & Management, Office of General Counsel, Department of Veterans Affairs.

[FR Doc. 2025-02830 Filed 2-19-25; 8:45 am]

BILLING CODE 8320-01-P